NATIONAL SCIENCE FOUNDATION

Notice of Permit Applications Received Under the Antarctic Conservation Act of 1978

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by June 12, 2013. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Permit Application: 2014-002

Applicant, Celia Lang, Program Director, Lockheed Corporation, Information Systems & Global Solutions (I&GS) Engineering Services Segment, 7400 South Tucson Way, Centennial, CO 80112.

Activity for Which Permit Is Requested

Enter Antarctic Specially Protected Areas (ASPA's). The applicant intends to provide support to scientists working at field camps in the Antarctic Peninsula area, some of which are located within ASPA's. The routine sites supported are: ASPA 117-Avian Island, ASPA 128 Cape Copacabana, western shore of Admiralty Bay, and ASPA 149-Cape Shirreff. Future science activities may necessitate the need for other field camps which may take place within other ASPA's. Activities include: movement of personnel and supplies from ship to shore via zodiac or small boat, opening and closing tasks for the research facilities ashore, and maintenance and servicing of on-shore facilities and equipment.

Location

Antarctic Peninsula region, ASPA 117-Avian Island, ASPA 128 Cape Copacabana, western shore of Admiralty Bay, and ASPA 149-Cape Shirreff.

Dates

May 1, 2013 to April 30, 2018.

Nadene G. Kennedy,
Permit Officer, Office of Polar Programs.

[FR Doc. 2013-11265 Filed 5-10-13; 8:45 am]

BILLING CODE 7555-01-P